DEPARTMENT OF HEALTH AND HUMAN SERVICES

Indian Health Service

Tribal Management Grant Program; New Discretionary Funding Cycle for Fiscal Year 2005

Funding Opportunity Number: HHS-IHS-TMG-2005-0001.

CFDA Number: 93.228.

Key Dates:

Training: May 24-28, 2004; June 23-24, 2004; July 7-8, 2004; and July 21-22, 2004.

Application Deadline: August 20, 2004.

Application Review Dates: October 18-22, 2004.

Application Notification: First week of December 2004.

Anticipated Award Start Date: January 1, 2005.

Program Authority: Public Law 93-638, sections 103(b)(2) and 103(e), Indian Self-Determination and Education Assistance Act, as amended.

I. Funding Opportunity Description

The Tribal Management Grant (TMG) Program is a national competitive discretionary grant program established to assist federally-recognized tribes and tribally-sanctioned tribal organizations in assuming all or part of existing Indian Health Service programs, services, functions, and activities (PSFA) through a Title I contract and to assist established Title I contractors and Title V compactors to further develop and improve their management capability. In addition, TMGs are available to tribes/tribal organizations under the authority of Public Law (Pub. L.) 93-638 section 103(e) for (1) obtaining technical assistance from providers designated by the tribe/tribal organization (including tribes/tribal organizations that operate mature contracts) for the purposes of program planning and evaluation, including the development of any management systems necessary for contract management and the development of cost allocation plans for indirect cost rates; and (2) planning, designing, and evaluating Federal health programs serving the tribe/tribal organization, including Federal administrative functions. These grants are established under the authority of section 103(b)(2) and section 103(e) of the Indian Self-Determination and Education Assistance Act, Public Law 93-638, as amended.

Funding Priorities: The IHS has established the following funding priorities for TMG awards. The funding of approved Priority I applicants will occur before the funding of approved Priority II applicants. Priority II applicants will be funded before approved Priority III applicants. Funds will be distributed until depleted.

• Priority I—Any Indian tribe that has received Federal recognition (restored, unterminated, funded, or unfunded) within the past 5 years.

• Priority II—All other eligible federally-recognized Indian tribes or tribally-sanctioned tribal organizations submitting a competing continuation application or a new application with the sole purpose of addressing audit material weaknesses identified in Attachment A (Summary of Findings and Recommendations) and other attachments, if any, of the transmittal letter received from the Office of the Inspector General, National External Audit Review (NEAR) Center, Department of Health and Human Services. Please identify by underlining the weakness to be addressed on Attachment A. Please refer to section III.3, “Other Requirements” for more information regarding Priority II Participation.

• Priority III—All other eligible federally-recognized Indian tribes or tribal organizations submitting a competing continuation application or a new application.

II. Award Information

Type of Instrument: Grant.

Estimated Funds Available: The estimated amount of funds available, based on the Administration's request for the TMG Program, is $2,276,000 in Fiscal Year (FY) 2005. There will be only one funding cycle in FY 2005.

Anticipated Number of Awards: This estimated amount is anticipated to fund approximately 20-25 new and continuation awards.

Project Periods: Varies from 12 months to 36 months. Please refer to “Eligible Project Types, Maximum Funding, and Project Periods” below for more detailed information.

Estimated Range of Awards: $50,000/year-$100,000/year. Please refer to “Eligible Project Types, Maximum Funding, and Project Periods” below for more detailed information.

Eligible Project Types, Maximum Funding and Project Periods: Applications submitted must be for only one project type. The TMG Program consists of four types of projects: (1) Feasibility studies, (2) planning, (3) evaluation studies, and, (4) health management structure development or improvement. Applications that address more than one project type will be considered ineligible and will be returned to the applicant. The maximum funding level noted below includes both direct and indirect costs. Application budgets which exceed the maximum funding level or project period identified for a project type will not be reviewed. Please refer to section IV.5. “Funding Restrictions” for further information regarding ineligible activities.

A. Feasibility Study—(Maximum funding/project period: $70,000/12 months). A study of a specific IHS program or segment of a program to determine if Tribal management of the program is possible. The study shall present necessary plans, approach, training, and resources required to assume Tribal management of the program. The study shall include the following four components:

• Health needs and health care services assessments that identify existing health care services and delivery system, program divisibility issues, health status indicators, unmet needs, volume projections, and demand analysis.

• Management analysis of existing management structures, proposed management structures, implementation plans and requirements, and personnel staffing requirements and recruitment barriers.

• Financial analysis of historical trends data, financial projections and new resource requirements for program management costs, and analysis of potential revenues from Federal/non-Federal sources.

• Decision statement/report that incorporates findings, conclusions, and recommendations; the presentation of the study and recommendations to the governing body for tribal determination regarding whether tribal assumption of program(s) is desirable or warranted.

B. Planning—(Maximum funding/project period: $50,000/12 months). A collection of data to establish goals and performance measures for the operation of current health programs or anticipated PSFAs under a Title I contract. Planning will specify the design of health programs and the management systems (including appropriate policies and procedures) to accomplish the health priorities of the tribe/tribal organization. For example, planning could include the development of a Tribal Specific Health Plan or a Strategic Health Plan, etc. Please note: The Public Health Service urges applicants submitting strategic health plans to address specific objectives of Healthy People 2010. Interested applicants may purchase a copy of Healthy People 2010 (Summary Report in print; Stock No. 017-001-00547-9) or CD-ROM (Stock No. 107-001-00549-5) through the Superintendent of Documents, Government Printing Office, P.O. Box 371954, Pittsburg, Pennsylvania, 15250-7945, or (202) 512-1800. You may access this information via the Internet at the following Web site: www.health.gov/healthypeople/publications/.

C. Evaluation Study—(Maximum funding/project period: $50,000/12 months). A systematic collection, analysis, and interpretation of data for the purpose of determining the value of a program. The extent of the evaluation study could relate to the goals and objectives, policies and procedures, or programs regarding targeted groups. The evaluation study could also be used to determine the effectiveness and efficiency of a tribal program operation (i.e. direct services, financial management, personnel, data collection and analysis, third-party billing, etc.) as well as determine the appropriateness of new components to a tribal program operation that will assist tribal efforts to improve the health care delivery systems.

D. Health Management Structure—(Average funding/project period: $100,000/12 months; maximum funding/project period: $300,000/36 months). Implementation of systems to manage or organize PSFAs. Management structures include health department organizations; health boards; and financial management systems, including systems for accounting, personnel, third-party billing, medical records, management information systems, etc. This includes the design, improvements, and correction of management systems that address weaknesses identified through quality control measures, internal control reviews, and audit report findings under the Office of Management and Budget (OMB) Circular No. A-133—Revised June 27, 2003, “Audits of States, Local Governments, and Non-Profit Organizations.” A copy of this circular and 25 Code of Federal Regulations (CFR) Part 900, “Indian Self-Determination and Education Assistance Act Amendments”, Subpart F—“Standards for Tribal or Tribal Organization Management Systems” will be made available in the appendix of the TMG application kit. Please see the “Application and Submission Information” section for directions about how to request a copy of the TMG application kit.

III. Eligibility Information

1. Eligible Applicants

Any federally-recognized Indian tribe or tribally-sanctioned tribal organization is eligible to apply for a grant. Eligible applicants include tribal organizations that operate mature contracts that are designated by a tribe to provide technical assistance and/or training. Only one application per tribe or tribal organization is allowed.

2. Cost Sharing or Matching

The TMG Program does not require cost sharing or matching to participate in the competitive grant process. However, in accordance with Pub. L. 93-638 section 103(c), the TMG funds may be used as matching shares for any other Federal grant programs that develop tribal capabilities to contract for the administration and operation of health programs.

3. Other Requirements

The following documentation is required (if applicable):

• Tribal Resolution—A resolution of the Indian tribe served by the project must accompany the application submission. An Indian tribe that is proposing a project affecting another Indian tribe must include resolutions from all affected tribes to be served. Applications by tribal organizations will not require a specific tribal resolution if the current tribal resolution(s) under which they operate would encompass the proposed grant activities. Draft resolutions are acceptable in lieu of an official resolution. However, an official signed tribal resolution must be received by the Grants Management Branch prior to the beginning of the Objective Review (October 18-22, 2004). If an official signed resolution is not submitted by the date referenced, the application will be considered incomplete and will be returned without consideration.

• Documentation for Priority I Participation—A copy of the Federal Register notice or letter from the Bureau of Indian Affairs verifying establishment of Federal tribal status within the last 5 years.

• Documentation for Priority II Participation—A copy of the transmittal letter and Attachment A from the Office of the Inspector General, NEAR Center, Department of Health and Human Services. See Funding Priorities for more information. If an applicant is unable to locate a copy of their most recent transmittal letter or needs assistance with audit issues, information or technical assistance may be obtained by contacting the IHS Audit Resolution Advisory Office at (301) 443-7301, or the National External Audit Review Center help line at (816) 374-6714 ext. 108. The auditor may also have the information/documentation required.

• Documentation of Consortium Participation—If an Indian tribe submitting an application is a member of a consortium, the tribe must:

• Identify the consortium.

• Indicate if the consortium intends to submit a TMG application.

• Demonstrate that the Tribe's application does not duplicate or overlap any objectives of the consortium's application.

If a consortium is submitting an application it must:

• Identify all the consortium member tribes.

• Identify if any of the member tribes intend to submit a TMG application of their own.

• Demonstrate that the consortium's application does not duplicate or overlap any objectives of the other consortium members who may be submitting their own TMG application.

• Please refer to sections IV.5. “Funding Restrictions” and V.2. “Review Section Process” for more information regarding other application submission information and/or requirements.

IV. Application and Submission Information

1. Address To Request Application Package

Interested parties may request a copy of the TMG application kit from either of the following persons:

Ms. Deanna J. Dick, Office of Management Support, Indian Health Service,801 Thompson Avenue, TMP 625,Rockville, Maryland 20852, (301) 443-6290;

Ms. Patricia Spotted Horse, Grants Management Branch, Indian Health Service, 801 Thompson Avenue, TMP 100, Rockville, Maryland 20852, (301) 443-5204.

The entire application kit is also available online at: www.ihs.gov/NonMedicalPrograms/tmg/index.asp.

2. Content and Form of Application Submission

A. All applications should:

• Be single-spaced.

• Be typewritten.

• Have consecutively numbered pages.

• Use black type not smaller than 12 characters per one inch.

• Have one-inch border margins.

• Be printed on one side only of standard size 8½″ x 11″ paper.

• Not be tabbed, glued, or placed in a plastic holder.

• Contain a narrative that does not exceed 14 typed pages that includes the below listed sections. (The 14-page narrative does not include the workplan, standard forms, Tribal resolution(s), table of contents, budget, budget justifications, multi-year narratives, multi-year budget, multi-year budget justifications, and/or other appendix items.)

• Introduction and Need for Assistance;

• Project Objective(s), Approach, and Results and Benefits;

• Project Evaluation;

• Organizational Capabilities and Qualifications.

Include in the application the following documents in the order presented. The Application Receipt Record, Checklists, General Information Page, Standard Forms, Certifications, and Disclosure of Lobbying Activities documents will be available in the appendix of application kit:

• Application Receipt Record, IHS-815-1A (Rev. 2/04).

• FY 2005 TMG Application Checklist.

• FY 2005 General Information Page.

• Tribal Resolution (final signed or draft unsigned).

• Documentation for Priority I Participation (if applicable).

• Documentation for Priority II Participation (if applicable).

• Documentation of Consortium Participation (if applicable).

• Standard Form 424, Application for Federal Assistance.

• Standard Form 424A, Budget Information—Non-Construction Programs (pages 1-2).

• Standard Form 424B, Assurances—Non-Construction Programs (front and back) The application shall contain assurances to the Secretary that the applicant will comply with program regulations, 42 CFR part 36, subpart H.

• Certifications (pages 17-19).

• PHS-5161 Checklist (pages 25-26).

• Disclosure of Lobbying Activities.

• Table of Contents with corresponding numbered pages.

• Project Narrative (not to exceed 14 typewritten pages—should address first year only if project is a multi-year request).

• Categorical Budget and Budget Justification.

• Multi-year Objectives and Workplan with Multi-year Categorical Budget and Multi-year Budget Justifications (if applicable).

• Appendix Items.

3. Submission Dates and Times

Applications must be postmarked on or before Friday, August 20, 2004 (anticipated start date of grants: January 1, 2005).

The IHS is accepting only paper applications at this time. Include one original and two complete copies of the final proposal with all required signatures and documentation. Mark the original application with a cover sheet that states, “Original Grant Application.” Mail or hand-deliver applications to the Division of Acquisition and Grants Management, Grants Management Branch, Indian Health Service, 801 Thompson Avenue, Rockville, Maryland 20852. Please note: all mailed applications must be postmarked on or before August 20, 2004.

Hand Delivered Proposals: Hand delivered proposals will be accepted from 8 a.m. to 5 p.m. eastern standard time, Monday through Friday. Applications will be considered to meet the deadline if they are received on or before the deadline, with hand-carried applications received by close of business 5 p.m. For mailed applications, a dated, legible receipt from a commercial carrier or the U.S. Postal Service will be accepted in lieu of a postmark. Private metered postmarks will not be accepted as proof of timely mailing. Late applications not accepted for processing will be returned to the applicant and will not be considered for funding. Receipt of applications will be acknowledged via the IHS-815-1A (Rev. 2/04) Application Receipt Record.

4. Intergovernmental Review

Executive Order 12372 requiring intergovernmental review is not applicable to this program.

5. Funding Restrictions

Ineligible Project Activities

The TMG may not be used to support recurring operational programs or to replace existing public and private resources. Note: The inclusion of the following projects or activities in an application will render the application ineligible and the application will be returned to the applicant:

• Planning and negotiating activities associated with the intent of a Tribe to enter the IHS Self-Governance Project. A separate grant program is administered by the IHS for this purpose. Prospective applicants interested in this program should contact Ms. Mary Trujillo, Office of Tribal Self-Governance, Indian Health Service, Reyes Building, 801 Thompson Avenue, Suite 240, Rockville, Maryland 20852, (301) 443-7821, and request information concerning the “Tribal Self-Governance Program Planning Cooperative Agreement Announcement” or the “Negotiation Cooperative Agreement Announcement.”

• Projects related to water, sanitation, and waste management.

• Projects that include long-term care or provision of direct services.

• Projects that include tuition, fees, or stipends for certification or training of staff to provide direct services.

• Projects that include design and planning of construction for facilities, including activities related to Program Justification Documents.

• Projects that propose more than one project type. For example, the inclusion of strategic planning (planning) and third-party billing (health management structure) in one project, or the inclusion of program evaluation (evaluation) and medical records update (health management structure) in another project.

Other Limitations—A current TMG recipient cannot be awarded a new, renewal, or competing continuation grant for any of the following reasons:

• The tribal management grantee may not have two tribal management grants funded concurrently;

• The current project is not progressing in a satisfactory manner; or

• The current project is not in compliance with program and financial reporting requirements.

Delinquent Federal Debts: No award shall be made to an applicant who has an outstanding delinquent Federal debt until either:

• The delinquent account is paid in full; or

• A negotiated repayment schedule is established and at least one payment is received.

6. Other Submission Requirements

Beginning October 1, 2003, applicants were required to have a Dun and Bradstreet (DUNS) number to apply for a grant or cooperative agreement from the Federal Government. The DUNS number is a nine-digit identification number which uniquely identifies business entities. Obtaining a DUNS number is easy and there is no charge.

To obtain a DUNS number, access http://www.dunandbradstreet.com or call 1-866-705-5711. Internet applications for a DUNS number can take up to 30 days to process. Interested parties may wish to obtain one by phone to expedite the process. The following information is needed when requesting a DUNS number:

• Organization name.

• Organization address.

• Organization telephone number.

• Name of CEO, Executive Director, President, etc.

• Legal structure of the organization.

• Year organization started.

• Primary business (activity) line.

• Total number of employees.

V. Application Review Information

The instructions for preparing the application narrative also constitute the evaluation criteria for reviewing and scoring the application. Weights assigned to each section are noted in parentheses.

1. Criteria

Introducation and Need for Assistance (20 Points)

a. Describe the tribe's/tribal organization's current health operation. Include what programs and services are currently provided (i.e., federally funded, State funded, etc.), information regarding technologies currently used (i.e., hardware, software, services, etc.), and identify the source(s) of technical support for those technologies (i.e., tribal staff, Area Office, vendor, etc.). Include information regarding whether the tribe/tribal organization has a health department and/or health board and how long it has been operating.

b. Describe the population to be served by the proposed project. Include a description of the number of IHS eligible beneficiaries who currently use services.

c. Describe the geographic location of the proposed project including any geographic barriers to the health care users in the area to be served.

d. Identify all previous TMGs received, dates of funding, and summary of project accomplishments. Include how previous TMG funds facilitated the progression of health development relative to the current proposed project. (Copies of reports will not be accepted.)

e. Identify the eligible project type and priority group of the applicant.

f. Explain the reason for your proposed project by identifying specific gaps or weaknesses in services or infrastructure that will be addressed by the proposed project. Explain how these gaps/weaknesses were discovered. If proposed project includes information technology (i.e., hardware, software, etc.), provide further information regarding measures taken or to be taken that ensure the proposed project will not create other gaps in services or infrastructure (i.e., IHS interface capability, Government Performance Reporting Act reporting requirements, contract reporting requirements, Information Technology (IT) compatibility, etc.).

g. Describe the effect of the proposed project on current programs (i.e., federally funded, State funded, etc.) and, if applicable, on current equipment (i.e., hardware, software, services, etc.). Include the affect of the proposed project on planned/anticipated programs and/or equipment.

h. Address how the proposed project relates to the purpose of the TMG Program by addressing the appropriate description that follows:

• Identify if the tribe/tribal organization is a Title I contractor. Address if the self-determination contract is a master contract of several programs or if individual contracts are used for each program. Include information regarding whether or not the tribe participates in a consortium contract (i.e., more than one tribe participating in a contract). Address what programs are currently provided through those contracts and how the proposed project will enhance the organization's capacity to manage the contracts currently in place.

• Identify if the tribe/tribal organization is a Title V compactor. Address when the tribe/tribal organization entered into the compact and how the proposed project will further enhance the organization's management capabilities.

• Identify if the tribe/tribal organization is not a Title I or Title V organization. Address how the proposed project will enhance the organization's management capabilities, what programs and services the organization is currently seeking to contract, and an anticipated date for contract.

Project Objective(s), Approach, and Results/Benefits (40 Points)

a. Describe the proposed project objective(s) in measurable and quantifiable terms.

b. Address how the proposed project will result in change or improvement in management capabilities by identifying the expected benefits (i.e., operational improvements) of each proposed project objective. Also include information regarding expected outcomes (i.e., tangible products) of each proposed project objective.

c. Address the extent to which the proposed project will build the local capacity to provide, improve, or expand services that address the need of the target population.

d. Submit a workplan in the appendix which includes the following information:

• Provide the action steps on a timeline for accomplishing the proposed project objective(s).

• Identify who will perform the action steps.

• Identify what tangible products will be produced during and at the end of the proposed project objective(s).

• Identify who will supervise the action steps taken.

• Identify who will accept work products at the end of the proposed project.

• Include any training that will take place during the proposed project and who will be attending the training.

• Include evaluation activities planned.

e. If consultants or contractors will be used during the proposed project, please include the following information in their scope of work (or note if consultants/contractors will not be used):

• Educational requirements.

• Desired qualifications and work experience.

• Expected work products to be delivered on a timeline.

If a potential consultant/contractor has already been identified, please include a resume in the appendix.

f. Describe what updates (i.e., revision of policies/procedures, upgrades, technical support, etc.) will be required for the continued success of the proposed project. Include when these updates will be necessary and where funds will come from to conduct the update and/or maintenance.

Project Evaluation (15 Points)

a. Describe how the progress of the proposed project objective(s) will be tracked (i.e., status reports, meetings, etc.)

b. Define what data will be collected to evaluate the success of the proposed project objective(s).

c. Describe how and when the data will be collected for the proposed project objective(s).

d. Explain how the data will be used to show (i.e., measure, etc.) the change brought about by the proposed project objective.

e. Describe any future evaluation efforts for the proposed project that will be conducted after the expiration of the grant.

Organizational Capabilities and Qualifications (15 Points)

a. Describe the organizational structure of the tribe/tribal organization beyond health care activities.

b. If the tribe/tribal organization does not have an established management system currently in place that complies with 25 CFR part 900, subpart F, “Standards for Tribal Management Systems”, provide information regarding plans to obtain management systems. If management systems are already in place, simply note it. (A copy of the 25 CFR part 900, subpart F, will be available in the TMG application kit.)

c. Describe the ability of the organization to manage the proposed project. Include information regarding similarly sized projects in scope and financial assistance as well as other grants and projects successfully completed.

d. Describe what equipment (i.e., fax machine, phone, computer, etc.) and facility space (i.e., office space) will be available for use during the proposed project. Include information about any equipment not currently available that will be purchased through the grant.

e. List key personnel who will work on the project. Include title used in the workplan. In the appendix, include position descriptions and resumes for all key personnel. Position descriptions should clearly describe each position and duties, indicating desired qualifications and experience requirements related to the proposed project. Resumes must indicate that the proposed staff member is qualified to carry out the proposed project activities.

f. If the project requires additional personnel (i.e., IT support, etc.), address how the tribe/tribal organization will sustain the position(s) after the grant expires. (If there is no need for additional personnel, simply note it.)

Categorical Budget and Budget Justification (10 Points)

a. Provide a categorical budget for each of the 12-month budget periods requested.

b. If indirect costs are claimed, indicate and apply the current negotiated rate to the budget. Include a copy of the rate agreement in the appendix.

c. Provide a narrative justification explaining why each line item is necessary/relevant to the proposed project. Include sufficient cost and other details to facilitate the determination of cost allowability (i.e., equipment specifications, etc.).

Multi-Year Project Requirements

Projects requiring a second or third year must include a program narrative, categorical budget, and budget justification for each additional year of funding requested.

Appendix Items

• Workplan for proposed objectives.

• Position descriptions for key staff.

• Resumes of key staff that reflect current duties.

• Consultant proposed scope of work (if applicable).

• Indirect Cost Agreement.

• Organizational chart (optional).

2. Review Selection Process

In addition to the above criteria/requirements, applications are considered according to the following:

1. Application Submission (Application Deadline: August 20, 2004)

Applications submitted in advance of or by the deadline and verified by the postmark will undergo a preliminary review to determine that:

• The applicant and proposed project type is eligible in accordance with this grant announcement.

• The application is not a duplication of a previously funded project.

• The application narrative, forms, and materials submitted meet the requirements of the announcement allowing the review panel to undertake an indepth evaluation; otherwise, it may be returned.

2. Competitive Review of Eligible Applications (Objective Review: October 18-22, 2004)

Applications meeting eligibility requirements that are complete, responsive, and conform to this program announcement will be reviewed for merit by the Ad Hoc Objective Review Committee (ORC) appointed by the IHS to review and make recommendations on these applications. The review will be conducted in accordance with the IHS Objective Review Guidelines. The technical review process ensures selection of quality projects in a national competition for limited funding. Applications will be evaluated and rated on the basis of the evaluation criteria listed in section V.1. The criteria are used to evaluate the quality of a proposed project, determine the likelihood of success, and assign a numerical score to each application. The scoring of approved applications will assist the IHS in determining which proposals will be funded if the amount of TMG funding is not sufficient to support all approved applications. Applications recommended for approval, having a score of 60 or above by the ORC and scored high enough to be considered for funding, are forwarded by the Grants Management Branch to the Area Offices for cost analysis and further recommendation. The program official accepts the Area Office Contract Proposal Liaison Officers' recommendations for consideration when funding applications. The program official forwards the final approved list to the Director, Office of Management Support, for final review and approval. Applications scoring below 60 points will be disapproved and returned to the applicant. Applications which are approved but not funded will not be carried over into the next cycle for funding consideration.

3. Anticipated Announcement and Award Dates

The IHS anticipates an award start date of January 1, 2005.

VI. Award Administration Information

1. Award Notices

Notification: First week of December 2004.

The Director, Office of Management Support, or program official, will notify the contact person named on each proposal of the results in writing via postal mail. Applicants whose applications are declared ineligible will receive written notification of the ineligibility determination and their original grant application via postal mail. The ineligible notification will include information regarding the rationale for the ineligible decision citing specific information from the original grant application. Applicants who are approved but unfunded and disapproved will receive a copy of the Executive Summary which identifies the weaknesses and strengths of the application submitted. Applicants which are approved and funded will be notified through the official Notice of Grant Award (NGA) document. The NGA will serve as the official notification of a grant award and will state the amount of Federal funds awarded, the purpose of the grant, the terms and conditions of the grant award, the effective date of the award, the project period, and the budget period. Any other correspondence announcing to the Project Director that an application was selected is not an authorization to begin performance. Any costs incurred before receipt of the NGA are at the recipient's risk and may be reimbursed only to the extent considered allowable pre-award costs.

2. Administrative and National Policy Requirements

Grants are administered in accordance with the following documents:

• This grant announcement.

• Health and Human Services regulations governing Pub. L. 93-638 grants at 42 CFR 36.101 et seq.

• 45 CFR part 92, “Department of Health and Human Services, Uniform Administrative Requirements for Grants and Cooperative Agreements to State and Local Governments Including Indian Tribes,” or 45 CFR part 74, “Administration of Grants to Non-Profit Recipients”

• Public Health Service Grants Policy Statement.

• Grants Policy Directives.

• Appropriate Cost Principles: OMB Circular A-87, “State and Local Governments,” or OMB Circular A-122, “Non profit Organizations”.

• OMB Circular A-133, “Audits of States, Local Governments, and Non-Profit Organizations”.

• Other applicable OMB circulars.

3. Reporting

• Progress Report—Program progress reports are required semi-annually. These reports will include a brief comparison of actual accomplishments to the goals established for the period, reasons for slippage (if applicable), and other pertinent information as required. A final report must be submitted within 90 days of expiration of the budget/project period.

• Financial Status Report—Semi annual financial status reports must be submitted within 30 days of the end of the half year. Final financial status reports are due within 90 days of expiration of the budget/project period. Standard Form 269 (long form) will be used for financial reporting.

VII. Agency Contact(s)

Interested parties may obtain TMG programmatic information from Ms. Deanna Dick through the information listed on page 6 of this application kit. Grant-related and business management information may be obtained from Ms. Patricia Spotted Horse through the information listed on page 6 of this application kit. Please note that the telephone numbers provided are not toll-free.

VIII. Other Information

The IHS will have four training sessions to assist potential applicants in preparing their FY 2005 TMG application. There will be one 5-day training session and three 2-day training sessions.

The 5-day training session scheduled in May will provide participants with the basics of grant writing and will be conducted by the Grantsmanship Center, Inc., of Los Angeles, California. This session will provide participants with basic grant writing skills, information regarding where to search for funding opportunities, and the opportunity to begin writing a grant proposal.

The 2-day training sessions will be conducted by the TMG Program Coordinator. The sessions will focus on the TMG specifically providing participants with information contained in this announcement, clarifying any issues/questions applicants may have, and critiquing project ideas. In an effort to make the 2-day training sessions productive, participants are expected to bring draft proposals to these meetings.

Priority will be given to groups eligible to apply for the TMG Program. Participation is also limited to two personnel from each tribe or tribal organization. All sessions are first come—first serve with the above limitations noted. All participants are responsible for making and paying for their own travel arrangements. Interested parties should register with the TMG staff prior to making travel arrangements to ensure space is available in selected session. The registration form may be requested from Ms. Dick at (301) 443-6290 or by accessing the TMG Web site at: www.ihs.gov/nonmedicalprograms/tmg/index.asp. This form may be faxed to (301) 443-2510. The training dates are listed below in chronological order:

• May 24-28, 2004—Minneapolis, MN (limit 26; registration/reservation deadline: May 13, 2004).

Holiday Inn Select Airport, 3 Appletree Square, Bloomington, MN 55425, (800) 465-4329—reference: Indian Health Service Tribal Management Grant Program.

Hotel rate: $88/night plus 13.5% tax.

Hotel has complimentary shuttle to/from airport.

Complimentary overnight parking available.

• June 23-24, 2004—Denver, CO (limit 24; registration/reservation deadline: June 14, 2004).

Comfort Inn Downtown, 401 17th Street, Denver, CO 80202, (303) 296-0400—reference: Indian Health Service Tribal Management Grant Program.

Hotel rate: $102/single or double plus 13.45% tax.

Approximate SuperShuttle rate to/from hotel and airport: $32 roundtrip.

Overnight parking available: $16/night.

• July 7-8, 2004—Washington, DC area (limit 24; registration/reservation deadline: June 11, 2004).

Lincoln Suites Downtown, 1823 L Street, NW., Washington, DC 20036, (202) 223-4320—reference: Tribal Management Grant Training Workshop.

Hotel rate: $150/night plus 14.5% tax.

Approximate taxi/cab rate to/from hotel and airport: $20 one-way.

Overnight parking available: $20/night.

• July 21-22, 2004—Portland, OR (limit 24; registration/reservation deadline: June 21, 2004).

Portland Marriott City Center, 520 SW. Broadway, Portland, OR 97205, (800) 228-9290—reference: IHS TMG.

Hotel rate: $91/single or double plus 12.5% tax.

Approximate taxi/cab rate to/from hotel and airport: $30 one-way. (Hotel is located approximately 1½ blocks from the Pioneer Square North stop on the Max Red Line Light Rail which runs to/from airport; cost—$1.60 one way. Information about the Light Rail system can be accessed by using: www.trimet.org.)

Overnight parking: $22/night.

The Public Health Service (PHS) strongly encourages all grant and contract recipients to provide a smoke-free workplace and promote the non-use of all tobacco products. In addition, Pub. L. 103-227, the Pro-Children Act of 1994, prohibits smoking in certain facilities (or in some cases, any portion of the facility) in which regular or routine education, library, day care, health care or early childhood development services are provided to children. This is consistent with the PHS mission to protect and advance the physical and mental health of the American people.

Dated: April 20, 2004.
Charles W. Grim,
Assistant Surgeon General, Director, Indian Health Service.

[FR Doc. 04-9473 Filed 4-26-04; 8:45 am]

BILLING CODE 4160-16-P